DEPARTMENT OF COMMERCE

International Trade Administration

Initiation of Antidumping and Countervailing Duty Administrative Reviews and Requests for Revocation in Part

AGENCY: Import Administration, International Trade Administration, Department of Commerce.

ACTION: Notice of initiation of antidumping and countervailing duty administrative reviews and requests for revocation in part.

SUMMARY: The Department of Commerce has received requests to conduct administrative reviews of various antidumping and countervailing duty orders and findings with June anniversary dates. In accordance with the Department's regulations, we are initiating those administrative reviews. The Department also received requests to revoke two antidumping duty orders in part.

EFFECTIVE DATE: July 23, 2001.

FOR FURTHER INFORMATION CONTACT: Holly Kuga, Office of AD/CVD Enforcement, Import Administration, International Trade Administration, U.S. Department of Commerce, 14th Street and Constitution Avenue, NW, Washington, DC 20230, telephone: (202)482-4737.

SUPPLEMENTARY INFORMATION:

Background

The Department has received timely requests, in accordance with 19 CFR 351.213(b) (2000), for administrative reviews of various antidumping and countervailing duty orders and findings with June anniversary dates. The Department also received timely requests to revoke in part the antidumping duty orders on Tapered Roller Bearings and Parts Thereof from the People's Republic of China and Polyethylene Terephthalate Film, Sheet and Strip (Pet Film) from the Republic of Korea.

Initiation of Reviews

In accordance with section 19 CFR 351.221(c)(1)(i), we are initiating administrative reviews of the following antidumping and countervailing duty orders and findings. We intend to issue the final results of these reviews not later than June 30, 2002.

| Period to be reviewed
Antidumping Duty Proceedings
JAPAN:
Hot-Rolled Flat-Rolled Carbon-Quality Steel Products
A-588-846 | 06/01/00-05/31/01
Kawasaki Steel Corporation
Structural Steel Beams
A-588-852 | 02/11/00-05/31/01
Kawasaki Steel Corporation
Nippon Steel Corporation
NKK Corporation
Sumitomo Metal Industries, Ltd.
Tokyo Steel Manufacturing Co., Ltd.
Topy Industries, Ltd.
Republic of Korea:
Polyethylene Terephthalate Film, Sheet and Strip (Pet Film)
A-580-807 | 06/01/00-05/31/01
H.S. Industries Co., Ltd.
Hyosung Corporation
Taiwan:
Certain Stainless Steel Butt-Weld Pipe Fittings
A-583-816 | 06/01/00-05/31/01
Liang Feng Stainless Steel Fitting Co., Ltd.
Ta Chen Stainless Steel Pipe, Ltd.
Tru-Flow Industrial Co., Ltd.
The People's Republic of China:
Certain Non-Frozen Apple Juice Concentrate ¹
A-570-855 | 11/23/99-05/31/01
Shaanxi Haisheng Fresh Fruit Juice Co., Ltd.
Sanmenxia Lakeside Fruit Juice Co., Ltd.
Shandong ZhongLu Juice Group Co.,/Rushan Shangjin-Zhonglu Foodstuff Co., Ltd./Shandong Luling Fruit Juice Co., Ltd./Rushan Dongjin Foodstuffs
Yantai Oriental Juice Co., Ltd.
Qingdao Nannan Foods Co., Ltd.
Xian Asia Qin Fruit Co., Ltd.
Xian Yang Fuan Juice Co., Ltd.
Changsha Industrial Products & Minerals Import & Export Co.
Shandong Foodstuffs Import & Export Corporation
Shaanxi Hengxing Fruit Juice Co., Ltd.
Shaanxi Machinery and Equipment Import and Export Corporation
Shaanxi Gold Peter Natural Drink Co., Ltd.
Synthetic Indigo ²
A-570-856 | 09/15/99-05/31/01
China Jiangsu International Economic Technical Cooperation Corp.
Wonderful Chemical Industrial Ltd./Jiangsu Taifeng Chemical Industry
Tapered Roller Bearings ³
A-570-601 | 06/01/00-05/31/01
Zhejiang Machinery Import & Export Copr.
China National Machinery Import & Export Corp.
Luoyang Bearing Corporation
Tianshui Hailin Import & Export Corp.
Wanxiang Group Corporation
Weihai Machinery Holding (Group) Co., Ltd.
Shanghai China Bearing Factory
Shanghai Zhenhua Bearing General Company
SKF Automobile Bearing Co., Ltd. (SKF—Zhenhua or SKF—Zhenghua)
Beijing SKF—Nankou Railway Bearings Corp., Ltd.
Xi'an Haihong Bearings Factory
Dalian Metallurgical Bearings Group Corp.
Hebei Rolling Bearing China
Hebei Rolling Mill Bearing Group Company
Hunan Hengyang Bearing Factory
China Machine-Building International Corp.
City Bearings Industrial Co., Ltd.
Fujian Yong'an Bearing Co., Ltd.
Ningbo Huanchi Group Corporation
Shandong Lunan Bearing Co., Ltd.
Xinjiang Bearing General Company
Nanjing Bearing Factory
Renben Group (Hangzhou Bearing Factory)
Qingdao No. 2 Bearing Factory
Shandong Liangshan Jingjiu Bearing Co., Ltd.
Hubei Xishui Bearing Factory
Zhangjiagang AAA Bearing Co., Ltd.
Baishan Bearing Co., Ltd.
Dandong Bearing Factory
Xiantao Special Bearing Co., Ltd.
Jamusi Bearing Factory
Shandong Wendeng Bearing Factory
Jingjiang Bearing Factory
Yunnan Honghe Bearing Factory
Dalong Bearing Factory
Beijing Renmin Bearing Factory
Xiangyang No. 2 Bearing Factory
Sichuang Dongfang Bearing Factory
Shanxi Baoji Bearing Factory
Shanghai Lianhe (United) Rolling Bearing Co., Ltd.
FAG Automotive Bearing (Shanghai) Co., Ltd.
Guyang Bearing Factory
Harbin Bearing Group Corporation
Xiangyang Automobile Bearing Co., Ltd.
Xiangyang Bearings
Chengdu Bearing Factory
Changzhi Bearing Factory
Wuxi No. 3 Bearing Factory
Chongqing Bearing Industrial Company
Changge Bearing Factory
Guizhou Hongshan Bearing Factory I/E Corp.
Hunan Zhuzhou Bearing General Factory
Nanan General Bearing Works
Ningbo Cixi Nailin Bearings Co., Ltd.
Ningxia Xibei Bearing Factory
Shenyang General Bearings
Taizhou Guotai Bearing Co., Ltd.
Zhejiang Lishui Waite Bearing Industrial Co., Ltd.
Shijiazhuang Imported Bearings
China Metals, Minerals, Machinery & Chemicals Import Export Corporation
Chin Jun Industrial, Ltd.
China National Machinery Import/Export Corporation, Yantai
Shanghai Machinery Import/Export Corp.
Hubei Provincial Machinery Import & Export Corp.
Tianshui Hailin Import & Export Corporation
Heilongjang Machinery Import/Export
Shanghai Pacific Machinery Import & Export Corp.
Direct Source International
Goldhill International Trading & Services Co.
Bilop International
China Aeolus Automotive Industries Import Export Corporation
Flying Dragon Machinery
Harbin Bearing Factory
Xiangyang Bearing Factory
Suzhou Bearing Factory
Chengdu General Bearing Factory
Hongshan Bearing Factory
Guiyang Bearing Factory
Haihong Bearing Factory
Lanzhou Bearing Factory
Beijing People Bearing Factory
Handan Bearing Factory
Jining Bearing Factory
Shenyang Bearing Factory
Chaoyang Bearing Factory
Gongzhuling Bearing Factory
Jiamusi Bearing Factory
Zhongguo Bearing Factory
Xiamen Bearing Factory
Shanghai Hongxing Bearing Factory
Wuxi Bearing Factory
Hangzhou Bearing Factory
Hefei Bearing Factory
Huainan Bearing Factory
Longxi Bearing Factory
Jiangxi Bearing Factory
Liangshan Bearing Factory
Jinan Bearing Factory
Huangshi Bearing Factory
Changsha Bearing Factory
Guangzhou Bearing Factory
Guangxi Bearing Factory Yishan County
Chongqing General Bearing Factory
Yunnan Bearing Factory
Datong Bearing Factory
Hebei Rolling Mill Bearing Factory
Hebei Bearing Factory
Chengde Bearing Factory
The Third Bearing Factory of Shanxi
Anshan Bearing Factory
Yingkou Bearing Factory
Xingcheng Bearing Factory
Hunjiang Bearing Factory
Daan Bearing Factory
Shanghai Hunan Bearing Factory
Shanghai Pujiang Bearing Factory
Shanghai Changning Bearing Factory
Xuzhou Revolving Support Factory
Taian Bearing Factory
Changshu Bearing Factory
Northwest Bearing Plant
Huangshi Bearing Factory
Guangxi Bearing Factory Yizhou
Chongqing Bearing Factory
Baoji Bearing Factory
Xiangtan Bearing Factory
Shaoguan Bearing Factory
Xinjiang Bearing Factory
The Second Bearing Factory of Xuzhou
Houzhou Bearing Factory
Yuxi Bearing Factory
Chifeng Bearing Factory
Huangyian Bearing Factory
Xingchang Bearing Factory
Liuan Bearing Factory
Zibo Bearing Factory
Jining Bearing Factory (Shandong)
Kaifeng Bearing Factory
Shashi Bearing Factory
Wuhan Bearing Factory
Changde Bearing Factory
Hengyang Bearing Factory
Hubei Bearing Factory '
Yueyang Bearing Factory
Zhuzhou Bearing Factory
Fanchang Bearing Factory
Dongguan Bearing Factory
Sichuan Small Size Bearing Factory
Leshan Bearing Factory
Honghe Bearing Factory
Shaanxi Bearing Factory
Shijiazhuang Bearing Factory
Shanxi Bearing Factory
Xiangtan Bearing Factory
Shaoguan Bearing Factory
Beijing-Pinggu Bearing Factory
Huhhot Bearing Factory
Nantong Bearing Factory
Qingjiang Bearing Factory
Wuhu Bearing Factory
Yiyang Bearing Factory
Zhongshan Bearing Factory
Handan Bearing Factory
Xingcheng Bearing Factory
China National Machinery/Equipment Corp., Harbin Branch
Far East Enterprising Co. (H.K.) Ltd.
China Ningbo Int'l Economic & Technical Cooperation Corp.
China Ningbo Cixi Import/Export Corp.
Ningbo Xing Li Bearing Co., Ltd.
Ningbo Yinxian Import/Export Corp. China
Ningbo Yinxian Import/Export Corp. Hong Kong
Santoh HK Ltd.
Huuzhou Import and Export Corp.
Fortune Network Ltd.
China Jiangsu Technical Import/Export Corp.
Zhejang Expanded Bearing Co. China
Zhejang Expanded Bearing Co. Hong Kong
Zhejang Yongtong Company China
Zhejang Yongtong Company Hong Kong
China National Bearing Joint Export Corp.
Sui Jun International Ltd.
Aempac System, Inc.
Xinguang Ind. Prod. Import/Export Corp. of Sichuan Province
Long Trend Ltd.
Wing Tung Wei (China) Ltd.
China Merchants S & E Co., Ltd.
Zhejiang Huangli Bearing Co., Ltd.
China Ningbo International Economic & Technical Cooperation Corporation
Ningbo Free Trade Zone
China National Machinery Imp. & Exp. Corp., Chongquing Branch
China-East Resources International
Distribution Services Ltd.
Inteks Inc. N.V.O.C.C.
China Tiancheng Jiangsu Corp. Nanjing
China Tiancheng Jiangsu Corp. Shanghai
Wholelucks Industrial Lim.
Peko Incorporation
O/B Manfred Development Co., (HK) Ltd.
Asia Stone Company Limited
Asia (USA) Inc. (Shanghai)
Xiamen Special Economic Zone Trade Co. Ltd.
Transunion International Company Hong Kong
Distribution Services Ltd. Shanghai
Phoenix Shanghai China
Shanghai Dong Yu Materials Co., Ltd.
Guandong Lingnan Industrial Products
Guandong Lingnan Industrial Products Import & Export Corporation
Dongguan Industry Development Corp.
Hi Light Int'l, Inc.
Ever Concord Ltd.
Sino Eagle Co.
Ever Concord Ltd. (Guangzhou)
China Mudanjiang Heading factory
Dalian Machine Tools Parts Factory
Ningbo Tiansheng Bearing Corp.
Shenzhen Rising Sun Bearing
Goldline Ltd.
Shenzhen Jinyuan Industrial
Capital Distribution Services
Versatile Int'l Corp.
Panalpina China, Ltd.
Wah Hing Trading Co.
China North Industries
Point Talent International Ltd.
Votainer Far East BV
Wuxi Viking General
Shenzen South China International
Oceanic Bridge International Inc.
China Jiansu Technical Import & Export Corp.
Ever Concord Ltd.
OAG International, Inc.
Zhejiang Xinchang Foreign Economic
Heicone Jiang Machinery Import & Export
Wenling Foreign Trading Corporation
Shanghai Dongyu Materials Co.
Ensign Freight (China) Ltd.
Amec International Co., Inc.
China Dong Feng Motor
Rong Shang International Corp.
STS Machinery, Inc.
USA International Business
China Xian Import & Export Corporation
China Jiangsu Machinery Import and Export (Group) Corp.
Countervailing Duty Proceedings
None.
Suspension Agreements
None.
¹ If one of the above named companies does not qualify for a separate rate, all other exporters of non-frozen apple juice concentrate from the People's Republic of China who have not qualified for a separate rate are deemed to be covered by this review as part of the single PRC entity of which the named exporters are a part.
² If one of the above named companies does not qualify for a separate rate, all other exporters of synthetic indigo from the People's Republic of China who have not qualified for a separate rate are deemed to be covered by this review as part of the single PRC entity of which the named exporter is a part.
³ If one of the above named companies does not qualify for a separate rate, all other exporters of tapered roller bearings from the People's Republic of China who have not qualified for a separate rate are deemed to be covered by this review as part of the single PRC entity of which the named exporter is a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: July 17, 2001.
Holly A. Kuga,
Senior Office Director, Group II, Office 4, AD/CVD Enforcement.

[FR Doc. 01-18342 Filed 7-20-01; 8:45 am]

BILLING CODE 3510-DS-P